DEPARTMENT OF TRANSPORTATION

Office of the Secretary

Applications of Maxjet Airways, Inc. for Certificate Authority

AGENCY: Department of Transportation.

ACTION: Notice of Order to Show Cause (Order 2005-9-26) [Docket OST-2004-17171].

SUMMARY: The Department of Transportation is directing all interested persons to show cause why it should not issue an order finding MAXjet Airways, Inc., fit, willing, and able, and awarding it a certificate of public convenience and necessity to engage in interstate scheduled air transportation of persons, property and mail.

DATES: Persons wishing to file objections should do so no later than October 14, 2005.

ADDRESSES: Objections and answers to objections should be filed in Dockets OST-2004-17171 and addressed to U.S. Department of Transportation, Docket Operations, (M-30, Room PL-401), 400 Seventh Street, SW., Washington, DC 20590, and should be served upon the parties listed in Attachment A to the order.

FOR FURTHER INFORMATION CONTACT: Vanessa R. Balgobin, Air Carrier Fitness Division (X-56, Room 6401), U.S. Department of Transportation, 400 Seventh Street, SW., Washington, DC 20590, (202) 366-9721.

Dated: September 30, 2005.
William. Bertram,
Chief, Air Carrier Fitness Division.

[FR Doc. 05-20332 Filed 10-7-05; 8:45 am]

BILLING CODE 4910-62-P